DEPARTMENT OF TRANSPORTATION

Federal Railroad Administration

[Docket Number FRA-2001-10214]

Petition for Waiver of Compliance

In accordance with Part 211 of Title 49 Code of Federal Regulations (CFR), this document provides the public notice that by a document dated June 15, 2012, the Minnesota Northern Railroad (MNN) has petitioned the Federal Railroad Administration (FRA) for an extension of Waiver Docket Number FRA-2001-10214.

Specifically, MNN seeks to extend a waiver for Caboose MNN 019 from 49 CFR 223.13—Requirements for existing cabooses, which requires safety glazing for existing cabooses.

MNN states that the circumstances at the time of the original waiver have not changed. The caboose is still only used on special occasions as an office car for officials and private persons for railroad business purposes.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue, SE., Room W12-140, Washington, DC 20590, between 9 a.m. and 5 p.m., Monday through Friday, except Federal Holidays.

Communications received by January 31, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the

Federal Register published on April 11, 2000 (Volume 65, Number 70; Pages 19477-78) or online at http://www.dot.gov/privacy.html.

Issued in Washington, DC, on December 10, 2012.
Robert C. Lauby,
Deputy Associate Administrator for Regulatory and Legislative Operations.

[FR Doc. 2012-30238 Filed 12-14-12; 8:45 am]

BILLING CODE 4910-06-P